DEPARTMENT OF TRANSPORTATION

Federal Aviation Administration

Research, Engineering and Development (R,E&D) Advisory Committee

AGENCY: Federal Aviation Administration.

ACTION: Notice of meeting.

Pursuant to section 10(a)(2) of the Federal Advisory Committee Act (Pub. L. 92-463; 5 U.S.C. App. 2), notice is hereby given of a meeting of the FAA Research, Engineering and Development (R,E&D) Advisory Committee.

Name: Research, Engineering & Development Advisory Committee.

Time and Date: September 17-9 a.m.-5 p.m. September 18-9 a.m.-5 p.m.

Place: Sheraton Pentagon South, 4641 Kenmore Avenue, Alexandria, Virginia.

Purpose: On September 17 from 9 a.m. to 5 p.m. will be a joint meeting with NASA's Revolutionize Aviation Subcommittee. The meeting agenda will include briefings on the National Plan, SATS/Capstone 21, Unmanned Aerial Vehicles in the National Airspace System, Environmental R&D and NASA/FAA Safety R&D Roadmaps. On September 18 from 9 a.m. to 5 p.m. the meeting agenda will include receiving from the Committee guidance for FAA's research and development investments in the areas of air traffic services, airports, aircraft safety, human factors and environment and energy.

Attendance is open to the interested public but seating is limited. Persons wishing to attend the meeting or obtain information should contact Gloria Dunderman at the Federal Aviation Administration, AAR-200, 800 Independence Avenue, SW., Washington, DC 20591, (202) 267-8937 or gloria.dunderman@faa.gov.

Members of the public may present a written statement to the Committee at any time.

Issued in Washington, DC on August 25, 2003.
Herman A. Rediess,
Director, Office of Aviation Research.

[FR Doc. 03-22061 Filed 8-27-03; 8:45 am]

BILLING CODE 4910-13-M